POSTAL SERVICE

International Product Change—Global Reseller Expedited Package Contracts 4

AGENCY: Postal Service™.

ACTION: Notice.

SUMMARY: The Postal Service hereby gives notice of its filing a request with the Postal Regulatory Commission to add Global Reseller Expedited Package Contracts 4 to the Competitive Products List.

DATES: Effective Date: August 15, 2014.

FOR FURTHER INFORMATION CONTACT: Paula Rabkin, (202) 268-2537.

SUPPLEMENTARY INFORMATION: The United States Postal Service ® hereby gives notice that, pursuant to 39 U.S.C. 3642 and 39 CFR 3020.30, on August 8, 2014, it filed with the Postal Regulatory Commission, a Request to Add Global Reseller Expedited Package Contracts 4 (GREP Contracts 4) to the Competitive Products List, and Notice of Filing a Global Reseller Expedited Package 4 Negotiated Service Agreement. The documents are available at http://www.prc.gov, Docket Nos. MC2014-38 and CP2014-67.

Stanley F. Mires,
Attorney, Federal Requirements.

[FR Doc. 2014-19328 Filed 8-14-14; 8:45 am]

BILLING CODE 7710-12-P